DEPARTMENT OF COMMERCE

National Oceanic and Atmospheric Administration

RIN: 0648-XD86

Caribbean Fishery Management Council; Public Meeting

AGENCY: National Marine Fisheries Service (NMFS), National Oceanic and Atmospheric Administration (NOAA), Commerce.

ACTION: Notice of a public meeting.

SUMMARY: The Caribbean Fishery Management Council's Scientific and Statistical Committee (SSC) will hold a two-day meeting.

DATES: The SSC meeting will be held on November 29-30, 2007.

ADDRESSES: The meeting will be held at the Pierre Hotel at Gallery Plaza, De Diego Avenue, Santurce, Puerto Rico.

FOR FURTHER INFORMATION CONTACT: Caribbean Fishery Management Council, 268 Munoz Rivera Avenue, Suite 1108, San Juan, Puerto Rico 00918-1920, telephone: (787) 766-5926.

SUPPLEMENTARY INFORMATION: The SSC will meet to discuss the items contained in the following agenda:

•Call to order

•Presentation on Acceptable Biological Catches (ABCs), Annual Catch Limits (ACLs), Accountability Measures (AMs) Guidelines, if available

•Presentation Data and Models for setting ACLs

•Presentation Queen Conch - David Olsen

-Extended Closed Season/Quota for Eastern St. Croix exclusive economic zone (EEZ)

•Recommendations to the Caribbean Fishery Management Council

•Five-year Research Plan Recommendations

•Public Comment Period

•Other Business

•Next Meeting

The SSC will convene on November 29 and November 30, 2007, from 9 a.m. until 4:30 p.m.

The meeting is open to the public, and will be conducted in English. Fishers and other interested persons are invited to attend and participate with oral or written statements regarding agenda issues.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. For more information or request for sign language interpretation and/other auxiliary aids, please contact Mr. Miguel A. Rolon, Executive Director, Caribbean Fishery Management Council, 268 Munoz Rivera Avenue, Suite 1108, San Juan, Puerto Rico, 00918-1920; telephone: (787) 766-5926, at least 5 days prior to the meeting date.

Dated: November 8, 2007.
Tracey L. Thompson,
Acting Director, Office of Sustainable Fisheries, National Marine Fisheries Service.

[FR Doc. E7-22198 Filed 11-13-07; 8:45 am]

BILLING CODE 3510-22-S